DEPARTMENT OF THE TREASURY

Alcohol and Tobacco Tax and Trade Bureau

27 CFR Part 4

[Docket No. TTB-2011-0002; T.D. TTB-95; Re: Notice No. 116]

RIN 1513-AA42

Approval of Grape Variety Names for American Wines

AGENCY: Alcohol and Tobacco Tax and Trade Bureau, Treasury.

ACTION: Final rule; Treasury decision.

SUMMARY: This document adopts, as a final rule, a proposal to amend the Alcohol and Tobacco Tax and Trade Bureau regulations by adding a number of new names to the list of grape variety names approved for use in designating American wines, and to include in the list several separate entries for synonyms of existing entries so that readers can more readily find them. These amendments will allow bottlers of wine to use more grape variety names on wine labels and in wine advertisements.

DATES: Effective Date: This final rule is effective November 28, 2011.

FOR FURTHER INFORMATION CONTACT: Jennifer Berry, Alcohol and Tobacco Tax and Trade Bureau, Regulations and Rulings Division, P.O. Box 18152, Roanoke, VA 24014; telephone 202-453-1039, ext. 275.

SUPPLEMENTARY INFORMATION:

Background

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Use of Grape Variety Names on Wine Labels

Part 4 of the TTB regulations (27 CFR part 4) sets forth the standards promulgated under the FAA Act for the labeling and advertising of wine. Section 4.23 of the TTB regulations (27 CFR 4.23) sets forth rules for varietal (grape type) labeling. Paragraph (a) of that section sets forth the general rule that the names of one or more grape varieties may be used as the type designation of a grape wine only if the wine is labeled with an appellation of origin as defined in § 4.25 (27 CFR 4.25). Under paragraphs (b) and (c), a wine bottler may use the name of a single grape variety on a label as the type designation of a wine if not less than 75 percent of the wine (or 51 percent in certain limited circumstances) is derived from grapes of that variety grown in the labeled appellation of origin area. Under paragraph (d), a bottler may use two or more grape variety names as the type designation of a wine if all the grapes used to make the wine are of the labeled varieties and if the percentage of the wine derived from each grape variety is shown on the label (and with additional rules in the case of multicounty and multistate appellations of origin). Paragraph (e) of § 4.23 provides that only a grape variety name approved by the TTB Administrator may be used as a type designation for an American wine and states that a list of approved grape variety names appears in subpart J of part 4.

Within subpart J of part 4, the list of prime grape variety names and their synonyms approved for use as type designations for American wines appears in § 4.91 (27 CFR 4.91). Alternative grape variety names temporarily authorized for use are listed in § 4.92 (27 CFR 4.92). Finally, § 4.93 (27 CFR 4.93) sets forth rules for the approval of grape variety names.

Approval of Grape Variety Names

Section 4.93 provides that any interested person may petition the Administrator for the approval of a grape variety name and that the petition should provide evidence of the following:

• That the new grape variety is accepted;

• That the name for identifying the grape variety is valid;

• That the variety is used or will be used in winemaking; and

• That the variety is grown and used in the United States.

Section 4.93 further provides that documentation submitted with the petition may include:

• A reference to the publication of the name of the variety in a scientific or professional journal of horticulture or a published report by a professional, scientific, or winegrowers' organization;

• A reference to a plant patent, if patented; and

• Information pertaining to the commercial potential of the variety, such as the acreage planted and its location or market studies.

Section 4.93 also places certain eligibility restrictions on the approval of grape variety names. TTB will not approve a name:

• If it has previously been used for a different grape variety;

• If it contains a term or name found to be misleading under § 4.39 (27 CFR 4.39); or

• If it contains the term “Riesling.”

Typically, if TTB determines that the evidence submitted with a petition supports approval of the grape variety name, TTB will send a letter of approval to the petitioner advising the petitioner that TTB will propose to add the grape variety name to the list of approved grape variety names in § 4.91 at a later date. After one or more approvals have been issued, a notice of proposed rulemaking will be prepared for publication in the Federal Register proposing to add the name(s) to the § 4.91 list, with opportunity for public comment. In the event that one or more comments or other information demonstrate the inappropriateness of an approval action, TTB will determine not to add the grape variety name in question to the list and will advise the original petitioner that the name is no longer approved.

Notice of Proposed Rulemaking

On January 20, 2011, TTB published Notice No. 116 in the Federal Register (76 FR 3573) proposing to add a number of grape variety names to the list of approved names in § 4.91, either as a grape variety not already listed or as a synonym for an existing listed name. Most of the name proposals were based on petitions that TTB had received and approved, and the evidence that had been submitted in support of each petitioned for name is summarized in the preamble to Notice No. 116. These names, on which TTB solicited comments, are as follows:

Auxerrois

Biancolella

Black Monukka

Blaufränkish

Brianna

Cabernet Diane

Cabernet Doré

Canaiolo

Carignan

Corot noir

Crimson Cabernet

Erbaluce

Favorite

Forastera

Freedom

Frontenac

Frontenac gris

Garnacha

Garnacha blanca

Geneva Red 7

Graciano

Grenache blanc

Grenache noir

Grüner Veltliner

Interlaken

La Crescent

Lagrein

Louise Swenson

Lucie Kuhlmann

Mammolo

Marquette

Monastrell

Montepulciano

Negrara

Negro Amaro

Nero d'Avola

Noiret

Peloursin

Petit Bouschet

Petit Manseng

Piquepoul blanc (Picpoul)

Prairie Star

Reliance

Rondinella

Sabrevois

Sagrantino

St. Pepin

St. Vincent

Sauvignon gris

Valiant

Valvin Muscat

Vergennes

Vermentino

Wine King

Zinthiana

Zweigelt

TTB also invited comments on three petitioned-for grape names that TTB did not approve by letter—Canaiolo Nero, Moscato Greco, and Princess. In addition, TTB requested comments on a petition requesting that two grape variety names currently listed in § 4.91 as separate varieties—Petite Sirah and Durif—be recognized as synonyms. The petitions for these grape names are also summarized in the preamble to Notice No. 116.

TTB also proposed to reformat the § 4.91 grape list to include separate entries for synonyms of existing entries so that readers can more readily find a particular name. When Notice No. 116 was published, the list was structured as an alphabetical list of prime grape names, with any synonym appearing only in parenthesis after the prime grape name. For example, the name “Black Malvoisie” was only listed in § 4.91 as a synonym after the prime name, “Cinsaut.” A reader trying to determine if “Black Malvoisie” is an approved grape variety name might not see it in an alphabetical list that set forth “Cinsaut” at the beginning of the line where the “Black Malvoisie” synonym appears.

TTB also believes the current format suggests that synonyms are in some way not as valid as grape names as prime names when, in fact, every name in § 4.91, whether a prime name or a synonym, is equally acceptable for use as a type designation for an American wine. TTB therefore proposed in Notice No. 116 to eliminate the word “prime” from the heading of § 4.91, as well as from the second sentence of the introductory text of that section, and to list each synonym in the same way as a prime name. As a result, § 4.91 would simply set forth a list of grape names that have been approved as type designations for American wines, followed, in parentheses, by any approved synonyms for that name.

Finally, TTB proposed to correct a technical error in § 4.91, that is, the misspelling of the grape name “Agawam” as “Agwam.” In addition to correcting this error, TTB proposed to allow the use of the misspelling “Agwam” for a period of one year after publication of the final rule so that anyone holding a COLA with the misspelling has sufficient time to obtain new labels.

Comments Received

TTB received 35 comments in response to Notice No. 116, most of them generally supportive of the proposed amendments. Of these, 28 specifically support the proposal to recognize Petite Sirah and Durif as synonyms. Many of the latter are identical letters that cite the DNA research, summarized in Notice No. 116, of Dr. Carole Meredith at the University of California at Davis (UC Davis) into the identity of the Petite Sirah grape variety. They also cite as additional evidence two publications that recognize the names “Petite Sirah” and “Durif” as synonyms. One commenter expresses concern about new clones being required to be marketed as “Durif,” a name he notes has little market presence. In response to the last comment, TTB notes that the proposal to recognize the names as synonymous will not require that clones be marketed as “Durif”; in fact, the reverse is true: The proposal will allow growers and vintners to use the names interchangeably.

TTB received two comments specifically in favor of the proposal to recognize Blaufränkisch as a synonym for Lemberger/Limberger, both commenters stating that they are growers of the variety.

TTB received a comment from Cornell University objecting to the proposed name for the new listing of the grape variety Geneva Red 7, which was bred at Cornell. The commenter, a Cornell plant varieties and germplasm licensing associate, states that Cornell does not approve of the name “Geneva Red 7,” but does approve of the name “Geneva Red.” TTB notes, however, that the name evidence in the petition for Geneva Red 7 included bulletins published by Cornell and a page from UC Davis's National Grape Registry. Both of these publications use the names “Geneva Red 7” and “GR 7”; neither uses the name “Geneva Red.” Further, TTB did not propose the name “GR 7” because it did not believe consumers would recognize that name as a grape variety name. Although TTB understands the interest of Cornell in the determination of what name should be used for a grape variety developed under its auspices, § 4.93 requires some evidence to establish the validity of the name. Of course, TTB would be willing to reconsider this matter following receipt of a petition under § 4.93 with appropriate evidence supporting use of the name “Geneva Red.”

One comment objects to including in the list grape varieties that are not cultivated widely enough for their names to be meaningful to consumers. The commenter states that varieties such as Sauvignon gris, Valvin Muscat, and Cabernet Diane are recent, only marginally planted hybrid varieties that have been given names which will lead the public into believing they are Vitis vinifera varieties. This commenter does, however, express approval of the listing of Vitis vinifera variety names such as Auxerrois or Grüner Veltliner, grapes that the commenter describes as widely accepted internationally.

TTB does not agree with the suggestion that a grape variety must be widely cultivated to merit inclusion in the list of approved grape names in § 4.91. Section 4.93 merely provides in this regard that the variety must be “grown and used in the United States” without specifying the extent which such growth and use must exist. With regard to hybrid varieties, TTB notes that they have a place in the U.S. wine industry, are popular in areas of the country where the climate makes the cultivation of Vitis vinifera varieties challenging, and are not per se outside the scope of approval under § 4.93. TTB therefore sees no reason to exclude from § 4.91 hybrid grape variety names that otherwise meet the standard for approval under § 4.93.

Additionally, TTB does not agree that the names Sauvignon gris, Valvin Muscat, and Cabernet Diane are misleading. Sauvignon gris, a pink-skinned mutation of the Sauvignon blanc variety is, in fact, a Vitis vinifera grape. Moreover, TTB notes that Valvin Muscat was developed from a crossing of Muscat Ottonel and Muscat du Moulin, while Cabernet Diane was bred from a cross of Cabernet Sauvignon and Norton. Because these latter grapes were developed from Vitis vinifera varieties and share both part of the name and some of the varietal characteristics of those grapes, TTB finds that they are not misleading.

Another commenter opined that some of the proposed names seem either “self-indulgent or outright silly for a wine varietal,” citing the name “Princess” as an example. TTB notes that § 4.93 does not provide for disapproval of a name because it appears to be self-indulgent or silly. So long as the name is a valid identifier of the grape variety, TTB believes that the decision whether to include it on a wine label or in a wine advertisement is a subjective matter that is best left to the wine industry.

Finally, one commenter favored recognizing Primitivo as a synonym for Zinfandel. Another commenter objected to the varietal (grape type) labeling regulations contained in § 4.23, which allow a varietal designation on a label if 75 percent (or 51 percent in the case of wine made from Vitis labrusca varieties) of the wine is derived from the labeled grape variety; this commenter believes these percentages are too low and are misleading to consumers. Because neither of these issues was raised in Notice No. 116 for public comment, TTB believes that it would be inappropriate to include the suggested changes in this final rule document.

TTB Finding

After careful review of the comments discussed above, TTB has determined that it is appropriate to adopt the proposed regulatory changes contained in Notice No. 116. In addition, TTB notes that with the removal of the word “prime” from § 4.91, it would also be appropriate to remove the word “prime” from § 4.92, the list of alternative grape variety names temporarily authorized for use. Accordingly, this document removes the word “prime” wherever it appears in § 4.92.

Regulatory Flexibility Act

TTB certifies under the provisions of the Regulatory Flexibility Act (5 U.S.C. 601 et seq.) that this final rule will not have a significant economic impact on a substantial number of small entities. The decision of a grape grower to petition for a grape variety name approval, or the decision of a wine bottler to use an approved name on a label or in an advertisement, is entirely at the discretion of the grower or bottler. This regulation does not impose any new reporting, recordkeeping, or other administrative requirements. Accordingly, a regulatory flexibility analysis is not required.

Executive Order 12866

This final rule is not a significant regulatory action as defined by Executive Order 12866. Therefore, it requires no regulatory assessment.

Drafting Information

Jennifer Berry of the Regulations and Rulings Division, Alcohol and Tobacco Tax and Trade Bureau, drafted this document.

List of Subjects in 27 CFR Part 4

Administrative practice and procedure, Advertising, Customs duties and inspection, Imports, Labeling, Packaging and containers, Reporting and recordkeeping requirements, Trade practices, Wine.

Amendments to the Regulations

For the reasons discussed in the preamble, TTB amends 27 CFR part 4 as set forth below:

PART 4—LABELING AND ADVERTISING OF WINE

1. The authority citation for 27 CFR part 4 continues to read as follows:

Authority: 27 U.S.C. 205, unless otherwise noted.

2. Section 4.91 is amended:

a. By removing the word “prime” from the section heading and from the second sentence of the introductory text;

b. By adding the word “variety” to the second sentence of the introductory text after the second use of “grape”; and

c. In the list of grape variety names following the introductory text, by removing the entries for “Agwam”, “Carignane”, “Durif”, “Grenache”, “Limberger (Lemberger)”, “Malvasia bianca”, and “Petite Sirah” and by adding new entries in alphabetical order to read as follows:

§ 4.91 List of approved names.

* * * * *

Agawam

* * * * *

Auxerrois

* * * * *

Biancolella

* * * * *

Black Malvoisie (Cinsaut)

Black Monukka

Black Muscat (Muscat Hamburg)

* * * * *

Blaufränkish (Lemberger, Limberger)

* * * * *

Brianna

* * * * *

Cabernet Diane

Cabernet Doré

* * * * *

Canaiolo (Canaiolo Nero)

Canaiolo Nero (Canaiolo)

* * * * *

Carignan (Carignane)

Carignane (Carignan)

* * * * *

Corot noir

* * * * *

Crimson Cabernet

* * * * *

Durif (Petite Sirah)

* * * * *

Erbaluce

Favorite

* * * * *

Forastera

* * * * *

Freedom

* * * * *

French Colombard (Colombard)

Frontenac

Frontenac gris

* * * * *

Fumé blanc (Sauvignon blanc)

* * * * *

Garnacha (Grenache, Grenache noir)

Garnacha blanca (Grenache blanc)

* * * * *

Geneva Red 7

* * * * *

Graciano

* * * * *

Grenache (Garnacha, Grenache noir)

Grenache blanc (Garnacha blanca)

Grenache noir (Garnacha, Grenache)

* * * * *

Grüner Veltliner

* * * * *

Interlaken

* * * * *

Island Belle (Campbell Early)

* * * * *

La Crescent

* * * * *

Lagrein

* * * * *

Lemberger (Blaufränkish, Limberger)

* * * * *

Limberger (Blaufränkisch, Lemberger)

Louise Swenson

Lucie Kuhlmann

* * * * *

Malvasia bianca (Moscato greco)

Mammolo

* * * * *

Marquette

* * * * *

Mataro (Monastrell, Mourvèdre)

* * * * *

Melon (Melon de Bourgogne)

* * * * *

Monastrell (Mataro, Mourvèdre)

* * * * *

Montepulciano

* * * * *

Moscato greco (Malvasia bianca)

Mourvèdre (Mataro, Monastrell)

* * * * *

Muscat Canelli (Muscat blanc)

* * * * *

Negrara

* * * * *

Negro Amaro

Nero d'Avola

* * * * *

Noiret

* * * * *

Peloursin

Petit Bouschet

Petit Manseng

* * * * *

Petite Sirah (Durif)

* * * * *

Picpoul (Piquepoul blanc)

* * * * *

Pinot Grigio (Pinot gris)

* * * * *

Pinot Meunier (Meunier)

* * * * *

Piquepoul blanc (Picpoul)

Prairie Star

* * * * *

Princess

* * * * *

Refosco (Mondeuse)

* * * * *

Reliance

* * * * *

Rkatsiteli (Rkatziteli)

* * * * *

Rondinella

* * * * *

Sabrevois

* * * * *

Sagrantino

* * * * *

St. Pepin

St. Vincent

* * * * *

Sauvignon gris

* * * * *

Seyval blanc (Seyval)

Shiraz (Syrah)

* * * * *

Trebbiano (Ugni blanc)

* * * * *

Valdepeñas (Tempranillo)

* * * * *

Valiant

Valvin Muscat

* * * * *

Vergennes

Vermentino

* * * * *

Vignoles (Ravat 51)

* * * * *

White Riesling (Riesling)

Wine King

* * * * *

Zinthiana

Zweigelt

3. Section 4.92 is amended by removing the word “prime” or “Prime” wherever it appears, and by adding new paragraph (d) to read as follows:

§ 4.92 Alternative names permitted for temporary use.

* * * * *

(d) Wines bottled prior to October 29, 2012.

Alternative Name/Name

Agwam—Agawam

Signed: August 22, 2011.
John J. Manfreda,
Administrator.
Approved: September 6, 2011.
Timothy E. Skud,
Deputy Assistant Secretary (Tax, Trade, and Tariff Policy).

[FR Doc. 2011-27812 Filed 10-26-11; 8:45 am]

BILLING CODE 4810-31-P